DEPARTMENT OF TRANSPORTATION

Federal Aviation Administration

Notice To Rescind a Notice of Intent To Prepare an Environmental Impact Statement

AGENCY: The Federal Aviation Administration (FAA), Department of Transportation (DOT).

ACTION: Notice to Rescind a Notice of Intent to Prepare an Environmental Impact Statement.

SUMMARY: A Notice of Intent to prepare an Environmental Impact Statement was published in the Federal Register Vol. 78, No. 248, Thursday, December 26, 2013, to advise the public that the FAA would prepare an EIS analyzing the potential environmental impacts of the proposed Shiloh Launch Complex. Space Florida had indicated an intent to submit an application to the FAA to request approval to operate a commercial space launch site, called the “Shiloh Launch Complex” in Brevard and Volusia Counties, Florida, triggering the requirement to comply with the National Environmental Policy Act. The FAA is issuing this notice to advise the public that Space Florida is conducting further analysis of the proposed site and the FAA will no longer prepare an EIS for this proposed project, at this time. If Space Florida decides to reinitiate the project, the FAA will release a new Notice of Intent for this project.

FOR FURTHER INFORMATION CONTACT: Ms. Stacey M. Zee, Environmental Protection Specialist, Federal Aviation Administration, 800 Independence Avenue SW, Suite 325, Washington, DC 20591; email Stacey.Zee@faa.gov, 202-267-9305.

SUPPLEMENTARY INFORMATION: The FAA in conjunction with the cooperating agencies, U.S. Army Corps of Engineers, National Aeronautics and Space Administration, U.S. Fish and Wildlife Service, and National Park Service will no longer be preparing an EIS for the issuance of a launch site operator license to Space Florida for the operation of the Shiloh Launch Site at this time.

Issued in Washington, DC.
Daniel Murray,
Manager, Space Transportation Development Division.

[FR Doc. 2020-07338 Filed 4-7-20; 8:45 am]

BILLING CODE 4910-13-P